DEPARTMENT OF AGRICULTURE

Forest Service

Siskiyou County Resource Advisory Committee

AGENCY: Forest Service, USDA.

ACTION: Notice of meeting.

SUMMARY: The Siskiyou County Resource Advisory Committee (RAC) will meet in Yreka, California to discuss routine business associated with requesting proposals consistent with the Secure Rural Schools and Community Self-Determination Act.

DATES: The Siskiyou RAC will meet on May 17, June 21, and July 19, 2010 from 4 p.m. until completion.

ADDRESSES: The meetings will be held at the Yreka High School Library, Preece Way, Yreka, CA 96097.

FOR FURTHER INFORMATION CONTACT: Kerry Greene, Forest RAC Coordinator, Klamath National Forest, (530) 841-4484 or electronically at kggreene@fs.fed.us.

SUPPLEMENTARY INFORMATION: Public comment periods will be provided and individuals will have the opportunity to address the Committee.

Dated: March 19, 2010.
Patricia A. Grantham,
Forest Supervisor, Klamath National Forest.

[FR Doc. 2010-9440 Filed 4-23-10; 8:45 am]

BILLING CODE 3410-11-M